DEPARTMENT OF COMMERCE

National Oceanic and Atmospheric Administration

Final Revised Management Plan for the He`eia National Estuarine Research Reserve

AGENCY: Office for Coastal Management, National Ocean Service, National Oceanic and Atmospheric Administration, Department of Commerce.

ACTION: Notice of approval for the final revised management plan for the He`eia National Estuarine Research Reserve.

SUMMARY: Notice is hereby given that the Office for Coastal Management, National Ocean Service, National Oceanic and Atmospheric Administration (NOAA), U.S. Department of Commerce approves the revised management plan for the He`eia National Estuarine Research Reserve in Hawai`i. In accordance with the Coastal Zone Management Act and its implementing regulations. The University of Hawai`i Institute of Marine Biology revised the reserve's management plan, which replaces the management plan previously approved in 2016.

ADDRESSES: The revised management plan can be downloaded or viewed at https://heeianerr.org/resources/. The document is also available by sending a written request to the point of contact identified below.

FOR FURTHER INFORMATION CONTACT: Leah Keller of NOAA's Office for Coastal Management, leah.keller@noaa.gov, (808) 465-2720.

SUPPLEMENTARY INFORMATION: Pursuant to 15 CFR 921.33(c), Hawai`i must revise the management plan for the He`eia National Estuarine Research Reserve at least every five years. Major changes to a reserve's management plan may be made only after receiving written approval from NOAA. NOAA approves changes to management plans via notice in the Federal Register. On July 22, 2022 NOAA issued a notice in the Federal Register announcing a thirty-day public comment period for the proposed revision of this management plan (87 FR 43790).

Appendix D of the plan contains a summary of written and oral comments received, and an explanation of how comments were incorporated.

The management plan outlines the reserve's strategic goals and objectives; administrative structure; programs for conducting research and monitoring, education, and training; resource protection, restoration, and manipulation plans; public access and visitor use plans; consideration for future land acquisition; and facility development to support reserve operations. Since 2016, this research reserve has supported community-led ahupua`a scale restoration in the He`eia estuary with the removal of 20 acres (80,000 square meters) of invasive mangroves and plants, replacing them with native plant species; agroforestry and lo`i cultivation; produced publications on Native Hawaiian land and sea management practices; and restored the He`eia fishpond.¹ As a newly established reserve, the reserve hired staff consisting of a reserve manager, research coordinator, education coordinator, coastal training program coordinator, and research technician. These staff play an important role in building community-supported education, research, stewardship, and training programming across the He`eia community. The reserve also installed and launched monitoring equipment across the ahupua`a to monitor water quality, abiotic and biotic features, and changes related to sea level rise and coastal inundation; completed needs assessments for education and training needs in He`eia; and supported various graduate assistants, fellows, and research interns. The revised management plan will serve as the guiding document for the 1,385-acre (5.6-square kilometer) He`eia National Estuarine Research Reserve for the next five years.

¹ An ahupua`a is a Hawaiian conceptualization of community that typically extends from the mountains to the ocean, and includes zones for forest, various forms of Indigenous agro-ecology and aquaculture, as well as nearshore zones for fisheries management.

NOAA reviewed the environmental impacts of the revised management plan and determined that this action is categorically excluded from further analysis under the National Environmental Policy Act, as amended, 42 U.S.C. 4321 et seq., and the Council on Environmental Quality Regulations for Implementing the Procedural Provisions of NEPA (40 CFR 1500-1508 (2022)), consistent with NOAA Administrative Order 216-6A.

Authority: 16 U.S.C. 1451 et seq.; 15 CFR 921.33.

Keelin S. Kuipers,
Deputy Director, Office for Coastal Management, National Ocean Service, National Oceanic and Atmospheric Administration.

[FR Doc. 2023-18177 Filed 8-22-23; 8:45 am]

BILLING CODE 3510-22-P